DEPARTMENT OF DEFENSE

Department of the Army, Corps of Engineers

Notice of Intent To Prepare an Environmental Impact Statement for the NEXT Renewable Fuels Oregon Project, Columbia County, Oregon

AGENCY: Department of the Army, U.S. Army Corps of Engineers, DoD.

ACTION: Notice of intent.

SUMMARY: The U.S. Army Corps of Engineers, Portland District (Corps), has received an application for a Department of the Army (DA) permit (Corps number NWP-2020-383) from NEXT Renewable Fuels Oregon, LLC to construct a facility to produce renewable fuels. The Corps, as the lead agency under the National Environmental Policy Act (NEPA), has determined the proposed project may significantly affect the quality of the human environment and will prepare an environmental impact statement (EIS). The Corps' action will be to issue, issue with modifications, or deny a DA permit for the proposed project. The EIS will assess the potential social, economic, and environmental impacts of the proposed project.

ADDRESSES: Written comments regarding the proposed EIS scope should be submitted to: U.S. Army Corps of Engineers, Portland District, Attn: Ms. Kate Mott, P.O. Box 2946, Portland, Oregon 97208-2946. Individuals who would like to provide comments electronically should submit comments by email to: nexteis@usace.army.mil.

FOR FURTHER INFORMATION CONTACT: For information about this project or to be included on the mailing list for future updates and meeting announcements, contact Ms. Kate Mott at the Corps by telephone at (503) 808-4041, by email at nexteis@usace.army.mil, or by mail at the mailing address provided above.

SUPPLEMENTARY INFORMATION: The Corps intends to prepare an EIS for the proposed NEXT Renewable Fuels Oregon project. The proposed project requires authorization from the Corps under Section 404 of the Clean Water Act (33 U.S.C. 1344) for the discharge of dredged or fill material into waters of the United States. As part of the DA permit application process, the Corps issued a public notice on November 5, 2021. The purpose of the public notice was to initiate an early public scoping process to solicit comments and information from the public to identify relevant issues and concerns associated with the proposed project. All comments received to date, including those provided for review during the public notice comment period, will be considered by the Corps during preparation of the EIS.

1. Proposed Action. The project requiring an EIS involves the construction of the proposed NEXT Renewable Fuels Oregon facility. The purpose of the project is to produce renewable fuels for markets on the west coast of the United States to meet the demand for fuels that are mandated by the Renewable Fuel Standard Program or other state mandates that require low-carbon fuels. The project would permanently fill 117.64 acres of wetlands and 1.79 acres of other waterways (ditches and slough) to construct a renewable fuels facility and ancillary components. The project would temporarily fill 32.03 acres of wetlands and 0.02 acres of waterways for project construction and a staging area.

The proposed project facility would be capable of producing 50,000 barrels per day of renewable diesel and other renewable fuel products. The production process would produce renewable fuels from a range of feedstocks such as various vegetable oils, used cooking oil, animal tallow, and inedible corn oil. The proposed facility and ancillary components constructed in wetlands/waterways would include: Main access road; natural gas pipeline; rail spur, ladder tracks, and rail spur access road; four new pipelines to connect with pipelines to an existing wharf; ten large product and feedstock tanks (125,000 to 225,000 barrels each); eleven smaller feedstock and process tanks (10,000 to 50,000 barrels each); pre-treatment plant; hydrogen facility; Ecofining™ units; storm and process water system; office/administration buildings/laboratory; and site landscaping and fencing.

The facility would be constructed by grading and filling the site. The overall final grade would be approximately 3 ft. above the existing grade. Fill material would consist of soil and aggregate imported from a local source. Facility components would be supported with pile foundations by installing approximately 15,200, 16-inch steel piles that are 90 ft. long (each) driven by a vibratory hammer. Facility components would also be supported with ground improvement foundations by wet soil mixing known as the Deep Mixing Method to construct concrete piles. Typical construction methods would be utilized for the stripping, grading, road construction, installation of underground utilities, stormwater, and processed water systems.

The project would rely on transportation by water, railroad and road to receive materials used in production (feedstock oils, tallows, bleaching earth) and to ship renewable fuels produced from the facility. The project would require unloading up to 118 barges per year (approximately 10 per month) to receive feedstock materials and require loading up to 58 ocean going vessels per year (approximately 5 per month) to transport renewable diesel produced from the facility to market. The project would require loading and unloading up to 208 trains per year (approximately 17 per month) to receive materials used in production (feedstock and bleaching earth) and to transport renewable diesel produced from the facility to market. The project would also require loading up to 720 trucks per year (approximately 60 per month) to transport renewable diesel produced from the facility to market.

The project includes a proposed compensatory mitigation site. The compensatory mitigation would enhance 471.08 acres of wetlands that are currently used for agriculture and silviculture.

2. Location. The project site is located at the Port Westward Industrial Park near Clatskanie, Columbia County, Oregon. The site is in Section 22, Township 8 North, Range 4 West at Latitude and Longitude: 46.167233°, −123.16195°.

3. Alternatives. The EIS will address an array of alternatives. Alternatives may include, but are not limited to, no action, alternative sites, and alternative facility designs. Mitigation measures could include, but are not limited to, avoidance and minimization, enhancement, restoration or establishment of wetlands.

4. Scoping Process. The scoping period will continue for 30 days from the date of this Notice of Intent. During the scoping period, the Corps invites federal, state, and local agencies, Native American Tribes, other interested parties, and the general public to participate in the scoping process. The purpose of the scoping process is to provide information to the public, serve as a mechanism to solicit agency and public input on alternatives, identify significant issues to be analyzed in the EIS, and ensure full and open participation in scoping for the draft EIS. Scoping comments may be submitted by conventional mail or email. All comments must include the Corps number NWP-2020-383. In order to be accepted, email comments must originate from the author's email account. All comments received will become part of the administrative record and are subject to public release under the Freedom of Information Act including any personally identifiable information such as names, phone numbers, and addresses. Additional information on the project and scoping process are available on the Corps' website listed below.

5. Scoping Meetings. The Corps will conduct virtual public scoping meetings during the 30-day scoping period in which agencies, organizations, and members of the general public are invited to present comments or suggestions with regard to the range of actions, alternatives, and potential impacts to be considered in the EIS. The specific dates and times of the meetings will be published in press releases, special public notices and on the Corps' project website (https://www.nwp.usace.army.mil/Missions/Regulatory/). At the Corps' website under Regulatory Pages, select Environmental Impact Statements.

5. Availability of the Draft EIS. The draft EIS is estimated to be available for public review and comment in early 2023. At that time, a 45-day public review period will be provided for public review and comment on the draft EIS.

Approved by:
Frances E. Coffey,
Director, Programs.

[FR Doc. 2022-10035 Filed 5-9-22; 8:45 am]

BILLING CODE 3720-58-P